DEPARTMENT OF HEALTH AND HUMAN SERVICES

National Institutes of Health

National Institute of Environmental Health Sciences; Amended Notice of Meeting

Notice is hereby given of a change in the meeting of the Interagency Breast Cancer and Environmental Research Coordinating Committee's State of Science Subcommittee meeting, November 29, 2011, 1 p.m. to 3 p.m., NIEHS/National Institutes of Health, Building 4401, East Campus, 79 T.W. Alexander Drive, Research Triangle Park, NC 27709, which was published in the Federal Register on September 23, 2011, 76 FR 59147.

This notice is being amended to change the time of the November 29, 2011 State of Science Subcommittee meeting to 2 p.m. to 4 p.m. The meeting is open to the public.

Dated: September 30, 2011.
Jennifer S. Spaeth,
Director, Office of Federal Advisory Committee Policy.

[FR Doc. 2011-26041 Filed 10-6-11; 8:45 am]

BILLING CODE 4140-01-P